ENVIRONMENTAL PROTECTION AGENCY

[EPA-R07-OW-2017-0097; FRL-9960-75-Region 7]

Notice of Approval of Underground Injection Control Program; Occidental Chemical Corporation, Wichita, Kansas

AGENCY: Environmental Protection Agency (EPA).

ACTION: Notice of approval of modification of existing no migration petition.

SUMMARY: Environmental Protection Agency (EPA) is hereby giving notice of approval of the modification of an existing no migration petition (petition) by Occidental Chemical Corporation (Occidental) under the 1984 Hazardous and Solid Waste Amendments to the Resource Conservation and Recovery Act.

DATES: This action is effective June 12, 2017.

ADDRESSES: Copies of the petition and all pertinent information relating thereto are on file at Environmental Protection Agency, Region 7, Regional Records Center, 11201 Renner Boulevard, Lenexa, Kansas 66219.

FOR FURTHER INFORMATION CONTACT: Mary Tietjen Mindrup, Chief, Drinking Water Management Branch, EPA Region 7, 11201 Renner Boulevard, Lenexa, Kansas 66219, telephone (913) 551-7431, or email mindrup.mary@epa.gov.

SUPPLEMENTARY INFORMATION: EPA is hereby giving notice of approval of the modification of an existing no migration petition (petition) for exemption from hazardous waste disposal restrictions of the Resource Conservation and Recovery Act Class I Hazardous Waste Injection for Occidental Chemical Corporation (Occidental) under the 1984 Hazardous and Solid Waste Amendments Occidental has adequately demonstrated to the satisfaction of EPA by the petition modification application and supporting documentation that, to a reasonable degree of certainty, there will be no migration of hazardous constituents from the injection zone for as long as the waste remains hazardous.

The existing petition allows for the subsurface disposal by Occidental of specific restricted wastes via Class I injection wells at Occidental's Wichita, Kansas facility and was approved by EPA with an effective date of October 24, 2008. In its modification application, Occidental requested that the existing petition include Well Number 11, a new well, as a replacement for Well Number 4, which was permanently plugged in 2008. This action results in no change to the volume of fluids to be injected.

This final decision allows the underground injection by Occidental of the specific restricted wastes identified in the modified petition into injection well Number 11 at the Wichita, Kansas facility until December 31, 2020, unless EPA moves to terminate this exemption. Included in this approval is the stipulation that Occidental acquires and continues to maintain an approved permit from the Kansas Department of Health and Environment.

A public notice concerning the Agency's proposed action was issued on December 12, 2016, and the public comment period closed on January 25, 2017. In addition to soliciting written comments regarding the Agency's proposed approval, EPA conducted a public availability session and a formal public hearing on January 11, 2017, at the Haysville Learning Center in Haysville, Kansas. No comments were received during the comment period. This decision constitutes a final Agency action. There is no further administrative process to appeal this decision.

Dated: March 20, 2017.
Edward H. Chu,
Acting Regional Administrator, Region 7.

[FR Doc. 2017-09591 Filed 5-10-17; 8:45 am]

BILLING CODE 6560-50-P